DEPARTMENT OF COMMERCE

National Oceanic and Atmospheric Administration

Announcement of Rookery Bay National Estuarine Research Reserve Revised Management Plan Including a Boundary Expansion

AGENCY: Estuarine Reserves Division, Office of Ocean and Coastal Resource Management, National Ocean Service, National Oceanic and Atmospheric Administration, U.S. Department of Commerce.

ACTION: Notice of approval and availability of the final revised management plan for the Rookery Bay National Estuarine Research Reserve.

SUMMARY: Notice is hereby given that the Estuarine Reserves Division, Office of Ocean and Coastal Resource Management, National Ocean Service, National Oceanic and Atmospheric Administration (NOAA), U.S. Department of Commerce has approved the revised management plan, which includes an expansion of the boundary of the reserve, for the Rookery Bay National Estuarine Research Reserve.

The Rookery Bay Reserve was designated in 1978 pursuant to Section 315 of the Coastal Zone Management Act of 1972, as amended, 16 U.S.C. 1461. The reserve has been operating under a management plan approved in 1995. Pursuant to 15 CFR Section 921.33(c), a state must revise their management plan every five years. The submission of this plan fulfills this requirement and sets a course for successful implementation of the goals and objectives of the reserve.

The mission of the Rookery Bay Reserve is to provide a basis for informed coastal decisions by communities in Southwest Florida through site-based estuarine research, stewardship and education. The management plan identifies four priority resource issues that are addressed through active management. These priority issues are (1) changing land use in adjacent watersheds that impact freshwater inflows, (2) loss of native biodiversity due to invasive plants and animals, (3) increased public use of reserves resources, and (4) the need to monitor catastrophic storm events, red tides and global climate change. Rookery Bay's management plan addresses these issues with specific programs for resource management and protection, research and monitoring, education and training, public access and visitor use, program administration, and partnerships and regional coordination.

The plan identifies management goals, priority resource management issues or threats that these goals must address, and specific strategies to accomplish these goals. The plan incorporates a modification of an adaptive management approach to ecosystems proposed by Morrison et al. (1998), which seeks a science-based approach to environmental management.

The resource management and protection program addresses issues such as land acquisition, habitat and hydrological restoration, invasive species control and eradication, and listed species protection. The reserve manages important habitats and performs activities such as controlled burns to sustain native biodiversity.

The research and monitoring program includes studies on mangrove and oyster reef ecology, restoration ecology, estuarine fishes, nutrient cycling and the impacts of mosquito control aerial spraying. Staff and visiting researchers conduct monitoring and research within the watersheds and boundaries of the reserve and use GIS to map critical habitats and flow ways. The results of their work is critical for use in adaptive management of the reserve.

The education and training program at the reserve targets a wide variety of audiences including students, teachers, adults, resource users and environmental professionals. The reserve is building a 14,700 square foot environmental learning center to conduct training programs on environmental issues important to Southwest Florida.

The public access and visitor use program at Rookery Bay includes developing a network of aquatic and terrestrial trails and boardwalks to provide for increased access to reserve resources. Visitor use policies are designed to provide for compatible use and protection of valuable natural resources.

The administration program ensures the staffing and budget necessary to carry out the goals and objectives of the plan; and, the partnerships and regional coordination program defines the range of partners that the reserve works with to achieve their goals. The reserve serves as the Southwest Florida region headquarters for the Florida Department of Environmental Protection Aquatic and Buffer Preserve field offices in Tampa Bay, Charlotte Harbor and Estero Bay. Rookery Bay also works with a plethora of organizations ranging from local governments, community groups, state and federal agencies, and international partners in China.

The boundary expansion incorporates adjacent state-owned coastal and submerged lands of the Rookery Bay Aquatic Preserve and the Cape Romano/Ten Thousand Islands Aquatic Preserve. Incorporating these lands increases the size of the reserve from 9,400 acres to 110,000 acres. The expansion will provide a contiguous estuarine ecosystem with a broader diversity of habitats not found within the old boundary of the reserve. Habitats within the new boundary of the reserve include abundant seagrass communities, tropical hardwood hammocks, coastal strand and barrier beach communities, cypress slough and prairies, and live bottom communities.

FOR FURTHER INFORMATION CONTACT: Erica H. Seiden at (301) 563-1172 or Laurie McGilvray at (301) 563-1158 of NOAA's National Ocean Service, Estuarine Reserves Division, 1305 East-West Highway, N/ORM5, 11th floor, Silver Spring, MD 20910.

Dated: December 23, 2002.
Jamison S. Hawkins,
Acting Assistant Administrator, Ocean Services and Coastal Zone Management, National Oceanic and Atmospheric Administration.

[FR Doc. 03-939 Filed 1-15-03; 8:45 am]

BILLING CODE 3510-08-P